DEPARTMENT OF COMMERCE

Foreign-Trade Zones Board

[Docket 4-2000]

Foreign-Trade Zone 86; Tacoma, Washington Area, Application for Expansion

An application has been submitted to the Foreign-Trade Zones (FTZ) Board (the Board) by the Port of Tacoma, grantee of FTZ 86, requesting authority to expand its zone in the Tacoma, Washington, area, adjacent to the Tacoma Customs port of entry. The application was submitted pursuant to the provisions of the Foreign-Trade Zones Act, as amended (19 U.S.C. 81a-81u), and the regulations of the Board (15 CFR part 400). It was formally filed on February 17, 2000.

FTZ 86 was approved on July 20, 1983 (Board Order 216, 48 FR 34794, 8/1/83) and expanded on April 3, 1985 (Board Order 292, 50 FR 15206, 4/17/85) and on November 3, 1989 (Board Order 446, 54 FR 47247, 11/13/89). The zone project currently consists of 750 acres at the following sites: Site 1 (668 acres)—within the Port of Tacoma complex, Tacoma; Site 2 (20 acres)—Valley South Corporate Park, 3324 & 3520—142nd Ave. East, Sumner; and, Site 3 (61 acres)—proposed warehouse site at 19315—38th Ave. E. and 4630—192nd Street East, Frederickson.

The applicant, in a major revision to its zone plan, now requests authority to expand the general-purpose zone to add 18 acres to Site 1, add 240 acres to Site 2, add 4 parcels (510 acres) to Site 3, and add 4 new sites (817 acres) in the Tacoma area: Site 1: Port of Tacoma—include an additional parcel (18 acres, owned by the Port of Tacoma)—within the Port of Tacoma complex, 3502 Lincoln Avenue, increasing the size of the zone from 668 acres to 686 acres; Site 2a: Valley South Corporate Park (owned by Tarragon L.L.C.)—add an additional 90 acres to existing FTZ site, 142nd Avenue East, Sumner, increasing the size from 20 acres to 110 acres; and, Proposed Site 2b: (new) Greenwater Corporate Park (150 acres, owned by Greenwater L.L.C.), East Valley Highway, Sumner; Site 3: Frederickson site—add 4 new parcels, including two Port parcels of 31 acres and 134 acres (owned by the Port of Tacoma) located at 192nd Street East, Frederickson; the Boeing Frederickson parcel (185 acres, owned by the Boeing Realty Corp.) located at 18001 Canyon Road East, Frederickson; and, J.R. & F. Randles parcel (160 acres—contiguous to the Boeing parcel—owned by J.R. & F. Randles) located at 19209 Canyon Road East, Frederickson; Proposed Site 4a: Fife Business Park (23 acres, owned by Team Fife LLC), Pacific Highway East, Fife; Proposed Site 4b: Rainier Corporate Park East (33 acres, owned by Riggs & Co.), 70th Avenue East, Fife; and, Proposed Site 4c: Trans-Pacific Industrial Park (89 acres, owned by Telephone Transpacific Corporation), 20th Street East, Fife; Proposed Site 5: Lakewood Industrial Park (170 acres, owned by Northwest Building LLC), 4700 100th Street Southwest, Lakewood; Proposed Site 6: Puyallup Industrial Park (79 acres, owned by Northwest Building LLC), intersection of State Roads 167, 512 and 161, Puyallup; and, Proposed Site 7: Cascadia Development Corp. Industrial Park (423 acres, owned by the Cascadia Development Corp.), State Road 410, South Prairie, Washington. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is May 2, 2000. Rebuttal comments in response to material submitted during the foregoing period may be submitted during the subsequent 15-day period to May 17, 2000.

A copy of the application and accompanying exhibits will be available for public inspection at each of the following locations:

U.S. Department of Commerce, Export Assistance Center, 950 Pacific Avenue, Suite 410, Tacoma WA 98402

Office of the Executive Secretary, Foreign-Trade Zones Board, Room 4008, U.S. Department of Commerce, 14th & Pennsylvania Avenue NW, Washington, DC 20230

Dated: February 23, 2000.
Dennis Puccinelli,
Acting Executive Secretary.

[FR Doc. 00-5215 Filed 3-2-00; 8:45 am]

BILLING CODE 3510-DS-P